DEPARTMENT OF HEALTH AND HUMAN SERVICES

Centers for Disease Control and Prevention

[60Day-04-0588]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Seleda Perryman, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluating the Impact of Lymphedema and a Lymphedema Management Intervention for Women with Lymphatic Filariasis: Understanding Issues Related to Quality of Life (OMB No. 0920-0588)—Extension—National Center for Infectious Diseases (NCID), Centers for Disease Control and Prevention (CDC).

Lymphatic filariasis, a mosquito-transmitted parasitic disease affecting over 120 million people, is the second leading cause of permanent disability worldwide. Globally, lymphatic filariasis causes debilitating genital disease in an estimated 25 million men and lymphedema or elephantiasis of the leg in 15 million people, mostly women in poverty stricken countries. The World Health Organization (WHO) recently identified community management of chronic lymphedema as one of the top twenty lymphatic filariasis research priorities. Recent advances in the management of chronic lymphedema include a prescribed hygiene and wound care intervention. This intervention has shown promising results in: (1) Preventing bacterial infections thus reducing acute attacks; (2) anecdotally improving overall quality of life; (3) alleviating pain; (4) and preventing further suffering.

The data gathered from this study will assist CDC in the development, monitoring and evaluation of morbidity control programs, and the provision of technical assistance to collaborating countries in the Global Alliance to Eliminate Lymphatic Filariasis. The data collected by this study will allow CDC to determine directly from affected women such information as knowledge and attitudes related to disease and secondary infections; perceptions of women related to disease transmission; health seeking practices; and current self-care of women who are not under care as well as those who are. This formative data will be used to assist the Ministry of Health in each country to develop new lymphedema management programs and modify current public health educational campaigns to recruit affected populations into treatment. The data will also provide the basis for culturally-tailored public health education strategies that increase the community's as well women's knowledge of lymphatic filariasis, address barriers to health care seeking, debunk myths surrounding disease and morbidity, utilize traditional health care practitioners, train community health care workers in management techniques, inform programs of the psychological, physical, and emotional needs that women have, and other issues identified in research findings.

In addition, the data findings will also be used on a global level (in collaboration with WHO, PAHO, the Liverpool School of Medicine, Emory University, and others) to develop process and outcome indicators for evaluating and monitoring treatment programs at the clinic-level, community-level and home-level. As new programs are initiated, critical evaluation measures are needed to measure the effectiveness of these programs to avoid spending money on ineffective strategies. Operationally this data will allow us to develop a public health strategy for women with disease and their communities that include the regimen of meticulous local hygiene to the affected areas. It will also allow us to develop critical evaluation indicators to ensure appropriate program monitoring so that information will be immediately available for assessment by both the affected countries and the donor agencies supporting program activities. Data will be widely disseminated in reports, presentations, and professional peer-reviewed publications to persons who work in prevention of this disease. There is no cost to respondents.

Annualized Burden Table
Questionnaires | Number of respondents | Number of responses per respondent | Average burden per response (in hrs.) | Total burden hours
Qualitative Interviews | 50 | 1 | 30/60 | 25
Quantitative Survey | 200 | 1 | 1 | 200
Total | 250 |  |  | 225

Alvin Hall,
Director, Management Analysis and Services Office, Centers for Disease Control and Prevention.

[FR Doc. 04-22550 Filed 10-6-04; 8:45 am]

BILLING CODE 4163-18-U